CONSUMER PRODUCT SAFETY COMMISSION

Commission Agenda and Priorities; Notice of Hearing

AGENCY: U.S. Consumer Product Safety Commission.

ACTION: Notice of public hearing.

SUMMARY: The U.S. Consumer Product Safety Commission (Commission) will conduct a public hearing to receive views from all interested parties about the Commission's agenda and priorities for fiscal year 2015, which begins on October 1, 2014, and for fiscal year 2016, which begins on October 1, 2015. We invite participation by members of the public. Written comments and oral presentations concerning the Commission's agenda and priorities for fiscal years 2015 and 2016 will become part of the public record.

DATES: The hearing will begin at 10 a.m. on July 24, 2014, and will conclude the same day. Requests to make oral presentations and the written text of any oral presentations must be received by the Office of the Secretary not later than 5 p.m. Eastern Daylight Time (EDT) on July 10, 2014.

ADDRESSES: The hearing will be in the Hearing Room, 4th Floor of the Bethesda Towers Building, 4330 East West Highway, Bethesda, MD 20814. Requests to make oral presentations and texts of oral presentations should be captioned “Agenda and Priorities FY 2015 and/or 2016” and sent by electronic mail (email) to: cpsc-os@cpsc.gov, or mailed or delivered to the Office of the Secretary, U.S. Consumer Product Safety Commission, 4330 East West Highway, Bethesda, MD 20814. Requests must be received no later than 5 p.m. EDT on July 10, 2014.

FOR FURTHER INFORMATION CONTACT: For information about the hearing, or to request an opportunity to make an oral presentation, please send an email, call, or write Todd A. Stevenson, Office of the Secretary, U.S. Consumer Product Safety Commission, 4330 East-West Highway, Bethesda, MD 20814; email: cpsc-os@cpsc.gov; telephone: (301) 504-7923; facsimile: (301) 504-0127. An electronic copy of the CPSC's budget request for fiscal year 2015 can be found at: www.cpsc.gov/performance-and-budget.

SUPPLEMENTARY INFORMATION: Section 4(j) of the Consumer Product Safety Act (CPSA) (15 U.S.C. 2053(j)) requires the Commission to establish an agenda for action under the laws the Commission administers and, to the extent feasible, to select priorities for action at least 30 days before the beginning of each fiscal year. Section 4(j) of the CPSA provides further that before establishing its agenda and priorities, the Commission conduct a public hearing and provide an opportunity for the submission of comments.

The Commission is in the process of preparing the agency's fiscal year 2015 Operating Plan and fiscal year 2016 Congressional Budget Request. Fiscal year 2015 begins on October 1, 2014, and fiscal year 2016 begins on October 1, 2015. Through this notice, the Commission invites the public to comment on the following questions:

1. What are the priorities the Commission should consider emphasizing and dedicating resources toward in the fiscal year 2015 Operating Plan and/or the fiscal year 2016 Congressional Budget Request?

2. What activities should the Commission consider deemphasizing in the fiscal year 2015 Operating Plan and/or the fiscal year 2016 Congressional Budget Request?

3. Should the Commission consider making any changes or adjustments to the agency's education, safety standards activities, regulation, and enforcement efforts in fiscal years 2015 and/or 2016, keeping in mind the CPSC's existing policy on establishing priorities for Commission action (16 CFR 1009.8)? The CPSC's budget request for fiscal year 2015 can be found at: www.cpsc.gov/performance-and-budget. Comments are welcome on whether particular action items should be higher priority than others, should not be included, or should be added to the fiscal year 2015 and/or fiscal year 2016 agendas.

Persons who desire to make oral presentations at the hearing on July 24, 2014, should send an email, call, or write Todd A. Stevenson, Office of the Secretary, U.S. Consumer Product Safety Commission, 4330 East-West Highway, Bethesda, MD 20814; email: cpsc-os@cpsc.gov; telephone: (301) 504-7923; facsimile (301) 504-0127. Requests must be received no later than 5 p.m. EDT on July 10, 2014. Presentations should be limited to approximately 10 minutes. The Commission reserves the right to impose further time limitations on all presentations and further restrictions to avoid duplication of presentations.

Dated: June 26, 2014.
Todd A. Stevenson,
Secretary, U.S. Consumer Product Safety Commission.

[FR Doc. 2014-15339 Filed 6-30-14; 8:45 am]

BILLING CODE 6355-01-P